DEPARTMENT OF TRANSPORTATION

Federal Aviation Administration

14 CFR Part 39

[Docket No. FAA-2017-0111; Product Identifier 2016-SW-079-AD; Amendment 39-19211; AD 2018-05-02]

RIN 2120-AA64

Airworthiness Directives; AgustaWestland S.p.A. Helicopters

AGENCY: Federal Aviation Administration (FAA), DOT.

ACTION: Final rule.

SUMMARY: We are adopting a new airworthiness directive (AD) for certain AgustaWestland S.p.A. (AgustaWestland) Model AW189 helicopters. This AD requires replacing the seal and filler wedges of all emergency exit windows. This AD was prompted by a report that some windows were improperly glued when installed. The actions of this AD are intended to correct an unsafe condition on these products.

DATES: This AD is effective April 4, 2018.

ADDRESSES: For service information identified in this final rule, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review the referenced service information at the FAA, Office of the Regional Counsel, Southwest Region, 10101 Hillwood Pkwy, Room 6N-321, Fort Worth, TX 76177.

Examining the AD Docket

You may examine the AD docket on the internet at http://www.regulations.gov by searching for and locating Docket No. FAA-2017-0111; or in person at Docket Operations between 9 a.m. and 5 p.m., Monday through Friday, except Federal holidays. The AD docket contains this AD, the European Aviation Safety Agency (EASA) AD, any incorporated-by-reference service information, the economic evaluation, any comments received, and other information. The street address for Docket Operations (phone: 800-647-5527) is U.S. Department of Transportation, Docket Operations, M-30, West Building Ground Floor, Room W12-140, 1200 New Jersey Avenue SE, Washington, DC 20590.

FOR FURTHER INFORMATION CONTACT: Martin R. Crane, Aviation Safety Engineer, Regulations & Policy Section, Rotorcraft Standards Branch, FAA, 10101 Hillwood Pkwy, Fort Worth, TX 76177; telephone (817) 222-5110; email martin.r.crane@faa.gov.

SUPPLEMENTARY INFORMATION:

Discussion

On November 2, 2017, at 82 FR 50847, the Federal Register published our notice of proposed rulemaking (NPRM), which proposed to amend 14 CFR part 39 by adding an AD that would apply to AgustaWestland Model AW189 helicopters. The NPRM proposed to require replacing the seal and filler wedges of all emergency exit windows. The proposed requirements were intended to prevent the failure of the windows from jettisoning during an emergency.

The NPRM was prompted by AD No. 2016-0216, dated October 28, 2016, issued by EASA, which is the Technical Agent for the Member States of the European Union, to correct an unsafe condition for Leonardo Helicopters (previously Finmeccanica S.p.A., previously AgustaWestland) Model AW189 helicopters, serial numbers 49007 through 49021, 49023, 49029, 49033, 49035, 89001, 89003, 89004, 92001, 92003, and 92005. The EASA AD does not apply to windows that have been reinstalled at least once since helicopter delivery and windows that are part of bubble window kit part number (P/N) 8G5620F00111.

EASA advises that some windows were installed with glue applied in locations that were not in accordance with the approved design. This condition, if not corrected, could prevent the jettisoning of helicopter emergency exit windows, possibly affecting the evacuation of crew and passengers during an emergency situation, EASA advises. EASA consequently requires replacement of the seal and the filler wedges of the emergency exit windows installed in the cockpit doors and cabin.

The FAA is in the process of updating AgustaWestland's name change to Leonardo Helicopters on its type certificate. Because this name change is not yet effective, this AD specifies AgustaWestland.

Comments

We gave the public the opportunity to participate in developing this AD, but we received no comments on the NPRM.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs and that air safety and the public interest require adopting the AD requirements as proposed.

Related Service Information

We reviewed Leonardo Helicopters Bollettino Tecnico No. 189-118, dated October 20, 2016. This service information specifies replacing the seal and filler wedges on all cockpit door and cabin emergency exit windows of Model AW189 helicopters, except on those windows that have been replaced or that are part of bubble window kit P/N 8G5620F00111.

Costs of Compliance

We estimate that this AD affects 2 helicopters of U.S. Registry and that labor costs average $85 per work-hour. Based on these estimates, we expect that removing and replacing the window seals and fillers requires 40 work-hours and that parts cost about $834, for a total cost of $4,234 per helicopter and $8,468 for the U.S. fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-05-02 AgustaWestland S.p.A.: Amendment 39-19211; Docket No. FAA-2017-0111; Product Identifier 2016-SW-079-AD.

(a) Applicability

This AD applies to Model AW189 helicopters, serial number 49007 through 49021, 49023, 49029, 49033, 49035, 89001, 89003, 89004, 92001, 92003, and 92005, certificated in any category.

(b) Unsafe Condition

This AD defines the unsafe condition as improperly glued emergency exit windows. This condition could result in the window failing to jettison, preventing the occupants from exiting the helicopter during an emergency.

(c) Effective Date

This AD becomes effective April 4, 2018.

(d) Compliance

You are responsible for performing each action required by this AD within the specified compliance time unless it has already been accomplished prior to that time.

(e) Required Actions

Within 75 hours time-in-service, replace the seal and filler wedges of each cabin and cockpit door emergency exit window, except bubble windows installed in accordance with bubble window kit part number 8G5620F00111.

(f) Alternative Methods of Compliance (AMOCs)

(1) The Manager, Safety Management Section, Rotorcraft Standards Branch, FAA, may approve AMOCs for this AD. Send your proposal to: Martin R. Crane, Aviation Safety Engineer, Regulations & Policy Section, Rotorcraft Standards Branch, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Leonardo Helicopters Bollettino Tecnico No. 189-118, dated October 20, 2016, which is not incorporated by reference, contains additional information about the subject of this AD. For service information identified in this AD, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review a copy of the service information at the FAA, Office of the Regional Counsel, Southwest Region, 10101 Hillwood Pkwy, Room 6N-321, Fort Worth, TX 76177.

(2) The subject of this AD is addressed in European Aviation Safety Agency (EASA) AD No. 2016-0216, dated October 28, 2016. You may view the EASA AD on the internet at http://www.regulations.gov in AD Docket No. FAA-2017-0111.

(h) Subject

Joint Aircraft Service Component (JASC) Code: 5600, Window/Windshield System.

Issued in Fort Worth, Texas, on February 21, 2018.
Scott A. Horn,
Deputy Director for Regulatory Operations, Compliance & Airworthiness Division, Aircraft Certification Service.

[FR Doc. 2018-03930 Filed 2-27-18; 8:45 am]

BILLING CODE 4910-13-P